DEPARTMENT OF HEALTH AND HUMAN SERVICES

Centers for Disease Control and Prevention

[30 Day-10-0479]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Automated Management Information System (MIS) for Diabetes Prevention and Control Programs (OMB No. 0920-0479, expiration date 5/31/2010)—Revision—National Center for Chronic Disease Prevention and Health Promotion (NCCDPHP), Centers for Disease Control and Prevention (CDC).

Background and Brief Description

Diabetes is the seventh leading cause of death in the United States. To reduce the burden of this disease, the Centers for Disease Control and Prevention (CDC) established the national Diabetes Control Program, which is administered through CDC's Division of Diabetes Translation (DDT). The national program provides support for health departments in states and Territories to design, implement and evaluate diabetes prevention and control strategies through State-based Diabetes Prevention and Control Programs (DPCPs).

CDC currently collects information from DCPCs through a Web-based Management Information System (MIS). The information collected supports DDT's broader mission of reducing the burden of diabetes by enabling DDT staff to more effectively identify the strengths and weaknesses of individual DPCPs, and to disseminate information related to successful public health interventions. The information is used to monitor compliance with cooperative agreement requirements, evaluate progress in achieving program-specific goals, and identify needs for training and technical assistance.

CDC plans to implement a number of changes. Some MIS data elements will be modified to reflect changes in the reporting requirements for DCPCs, and to harmonize the progress and performance indicators for DCPCs with indicators being implemented for other CDC-funded programs. In addition, the electronic MIS is being restructured to improve usability and to reduce burden to respondents through improved organization and increased use of existing data resources. CDC also requests OMB approval to incorporate the term “Prevention” into the title of the clearance, in recognition of the increased emphasis on diabetes prevention in the work plans of state-based DCPCs.

Respondents will be 53 DCPCs in States, the District of Columbia, the Virgin Islands, and Puerto Rico. The information collection will no longer include the Pacific Islands jurisdictions, which in the future will be funded through a separate mechanism with different reporting requirements.

Once per year, each DCPC will submit an Annual Report to CDC that includes information about its Program, Resources, Partners, Budget, and Planning activities. In addition, each DCPC will submit a Semi-Annual Report twice per year that includes information about the Objectives described in its Action Plan, and related Activities.

Approval to collect information for three additional years is requested. There are no costs to respondents other than their time. The total estimated burden hours are 4,452.

Estimated Annualized Burden Hours
Type of respondents | Form name | Number of respondents | Number of responses per respondent | Average burden per response (in hours)
Diabetes Prevention and Control Programs
| Annual Report | 53 | 1 | 51
| Semi-Annual Report | 53 | 2 | 16.5

Dated: February 17, 2010.
Maryam I. Daneshvar,
Acting Reports Clearance Officer, Centers for Disease Control and Prevention.

[FR Doc. 2010-3756 Filed 2-23-10; 8:45 am]

BILLING CODE 4163-18-P